DEPARTMENT OF COMMERCE

Under Secretary of Economic Affairs

Agency Information Collection Activities; Submission to the Office of Management and Budget (OMB) for Review and Approval; Comment Request; Concrete Masonry Products Research, Education, and Promotion Evaluation and Compliance and Membership Application Forms

AGENCY: Under Secretary of Economic Affairs, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before July 1, 2024.

ADDRESSES: Interested persons are invited to submit written comments to Kenneth White, Office of the Under Secretary of Economic Affairs, by email at kwhite2@doc.gov or PRAcomments@doc.gov. Do not submit Confidential Business Information or otherwise sensitive or protected information.

FOR FURTHER INFORMATION CONTACT: Requests for additional information or specific questions related to collection activities should be directed to Kenneth White, Senior Policy Analyst, Under Secretary of Economic Affairs, by mail at U.S. Department of Commerce; 1401 Constitution Avenue NW, Washington, DC or via email at kwhite2@doc.gov.

SUPPLEMENTARY INFORMATION:

I. Abstract

This is a request for an extension of an already approved collection of information. In 2021 the Secretary held a referendum among eligible manufacturers to determine whether they favored the implementation of an Order to establish an orderly program for developing, financing, and carrying out an effective, continuous, and coordinated program of promotion, education, and research to support the concrete masonry products industry. The referendum passed and the Order went into effect in December 2021. The Order requires the Secretary to establish a board to carry out the program. The Secretary appointed Board members in the Fall of 2022. (1) The Order establishes a three-year term limit for Board members, thus requiring ongoing and continuous consideration of applicants to fill vacancies. (2) The Order requires producers of concrete masonry block to remit quarterly, an assessment to the Board. Continuation of this approved collection will allow consideration of applicants to the Board to fill vacancies and allow reporting of quarterly assessment payments.

In 2022, the Secretary appointed members to the Concrete Masonry Products Board (Board) to develop and implement programs of research, education, and promotion. In 2023 the Board began collecting assessments from manufacturers of concrete masonry units, of which the Board will use to implement programs and activities.

There are two forms in this Information Collection Request (ICR) relating to the Board membership and the collection of assessments. The first is the application form to be considered for Board membership. Board membership is open to all manufacturers of concrete masonry products. Completion of the application form reflects an individual's interest in becoming a Board member and is necessary to verify eligibility and to assist in determining suitability to serve on the Board. The second form for this ICR relates to the payment of assessments. Producers that remit assessments will complete the form to establish proper payment of assessments. Authorizing Statute: 15 U.S.C. Chapter 13 (sections 8701-8717).

II. Method of Collection

Registrants may download, complete, print, and submit via fax or mail from the Board's website.

III. Data

OMB Control Number: 0605-0028.

Form Number(s): None.

Type of Review: Regular submission. This is an extension.

Affected Public: Business or other for-profit organizations.

Board Application

Estimate of Burden: 0.25 hour per application.

Respondents: Manufacturers of concrete masonry units.

Estimated Number of Respondents: 160.

Estimated Number of Responses per Respondent: 1.

Estimated Total Annual Burden on Respondents: 40 hours.

Respondents Obligation: Voluntary.

Evaluation and Compliance

Estimate of Burden: 0.5 hour per quarterly report.

Respondents: Manufacturers of concrete masonry units.

Estimated Number of Respondents: 160.

Estimated Number of Responses per Respondent: 4.

Estimated Total Annual Burden on Respondents: 320 hours.

Respondent's Obligation: Mandatory.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-09481 Filed 5-1-24; 8:45 am]

BILLING CODE 3510-06-P